FEDERAL MARITIME COMMISSION

Ocean Transportation Intermediary License Applicant

Notice is hereby given that the following applicants have filed with the Federal Maritime Commission an application for licenses as Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel-Operating Common Carrier Ocean Transportation Intermediary Applicants

Providence Services Inc., 8565 N.W. 68th Street, Miami, FL 33166; Officer: Rodolfo Lang, President (Qualifying Individual)

Fulway International, Inc. d/b/a Air-Sea, International Logistics, Inc., 15355 Vantage Parkway W., Suite 103, Houston, TX 77032; Officer: Mengmeng Liu, President (Qualifying Individual)

Sky 2 C Freight Systems, Inc., 39655 Trinity Way, #3108, Fremont, CA 94538; Officer: Tarun Tandon, Director (Qualifying Individual)

Non-Vessel Operating Common Carrier and Ocean Freight Forwarder Transportation Intermediary Applicants

Alex Nichols Agency, division of National Horse Transfer, Inc., 31 Plainfield Avenue, Elmont, NY 11003; Officers: Ronald Beckerman, Vice President (Qualifying Individual), William A. Nichols, President

LRG International, Inc., 8428 Sunstate Street, Tampa, FL 33634; Officer: Henrik A. Jorgensen, President (Qualifying Individual)

Ocean Freight Forwarders—Ocean Transportation Intermediary Applicants

Import logistics, Inc., 3847 Exchange Avenue, Aurora, IL 60504; Officers: Carol Gallagher, Director (Qualifying Individuals), Colin P. Hann, President

P-Serv Technologies, Inc., 4473 Willow Road, Suite 110, Pleasanton, CA 94588; Officer: Mitsuko Mizushima, CEO (Qualifying Individual)

Dated: March 31, 2000.
Bryant L. VanBrakle,
Secretary.

[FR Doc. 00-8360 Filed 4-4-00; 8:45 am]

BILLING CODE 6730-01-P